DEPARTMENT OF THE INTERIOR

Fish and Wildlife Service

Endangered Species Recovery Permit Applications

AGENCY: Fish and Wildlife Service, Interior.

ACTION: Notice of receipt of permit applications.

SUMMARY: We invite the public to comment on the following applications to conduct certain activities with endangered species.

DATES: Comments on these permit applications must be received on or before May 19, 2006.

ADDRESSES: Written data or comments should be submitted to the U.S. Fish and Wildlife Service, Chief, Endangered Species, Ecological Services, 911 NE. 11th Avenue, Portland, Oregon 97232-4181 (telephone: 503-231-2063; fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents to the address above. Please refer to the respective permit number for each application when requesting copies of documents.

SUPPLEMENTARY INFORMATION: The following applicants have applied for scientific research permits to conduct certain activities with endangered species pursuant to section 10(a)(1)(A) of the Endangered Species Act (16 U.S.C. 1531 et seq.). The U.S. Fish and Wildlife Service (we) solicits review and comment from local, State, and Federal agencies, and the public on the following permit requests.

Permit No. TE-827493

Applicant: Brian Leatherman, Yorba Linda, California.

The permittee requests an amendment to take (capture and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis) in conjunction with surveys throughout the range of each species in southern California for the purpose of enhancing their survival.

Permit No. TE-0726550

Applicant: Jennifer Michaud-Laird, Sebastopol, California.

The permittee requests an amendment to take (capture and collect and kill) the California freshwater shrimp (Syncaris pacifica) in conjunction with surveys in Sonoma, Marin, and Napa Counties, California, for the purpose of enhancing its survival.

Permit No. TE-118641

Applicant: Jody McGraw, Boulder Creek, California.

The applicant requests a permit to take (capture, handle, and release) the Zayante band-winged grasshopper (Trimerotropis infantilis) and the Mount Hermon June beetle (Polyphylla barbata) in conjunction with surveys in Santa Cruz County, California, for the purpose of enhancing their survival.

Permit No. TE-122123

Applicant: Douglas B. McNair, Pasadena, California.

The applicant requests a permit to take (locate and monitor nests) the least Bell's vireo (Vireo bellii pusillus) and take (harass by survey and monitor nests) the southwestern willow flycatcher (Empiconax traillii extimus) in conjunction with surveys in San Bernardino and Riverside Counties in California for the purpose of enhancing their survival.

Permit No. TE-119861

Applicant: Quad Knopf, Inc., Visalia, California.

The applicant requests a permit to take (capture and collect and kill) the Conservancy fairy shrimp (Branchinecta conservatio), the longhorn fairy shrimp (Branchinecta longiantenna), the vernal pool tadpole shrimp (Lepidurus packardi), the Riverside fairy shrimp (Streptocephalus wootoni), and the San Diego fairy shrimp (Branchinecta sandiegonensis); take (harass by survey, capture and release) the California tiger salamander (Ambystoma californiense); and take (capture, mark, and release) the Tipton kangaroo rat (Dipomodys nitratratoides nitratratoides), the Fresno kangaroo rat (Dipomodys nitratratoides exilis), the giant kangaroo rat (Dipodomys nigens), and the Buena Vista Lake shrew (Sorex ornatus relictus) in conjunction with surveys and demographic studies throughout the range of each species in California for the purpose of enhancing their survival.

Permit No. TE-122025

Applicant: Tracy Bailey, Ridgecrest, California.

The applicant requests a permit to take (capture, mark, and release) the San Bernardino kangaroo rat (Dipodomys merriami parvus), the Stephens' kangaroo rat (Dipodomys stephensi), and the Morro Bay kangaroo rat (Dipodomys heermanni morroensis) in conjunction with surveys throughout the species range in California for the purpose of enhancing their survival.

Permit No. TE-101148.

Applicant: David Compton, Santa Barbara, California.

The permittee requests a permit amendment to take (harass by survey) the southwestern willow flycatcher (Empidonax traillii extimus) in conjunction with surveys in Riverside and San Bernardino Counties, California, for the purpose of enhancing its survival.

We solicit public review and comment on each of these recovery permit applications.

Dated: March 31, 2006.
Paul Henson,
Acting Manager, California/Nevada Operations Office, U.S. Fish and Wildlife Service.

[FR Doc. E6-5846 Filed 4-18-06; 8:45 am]

BILLING CODE 4310-55-P